DEPARTMENT OF AGRICULTURE

Forest Service

McCaslin Project; Chequamegon-Nicolet National Forest, Oconto and Forest Counties, WI

AGENCY: Forest Service, USDA.

ACTION: Notice; Intent to prepare environmental impact statement.

SUMMARY: The Forest Service will prepare an environmental impact statement (EIS) to document the analysis and disclose the environmental impacts of proposed land management activities, and corresponding alternatives, within the McCaslin project area.

The purpose of the McCaslin project is to implement land management activities that are consistent with direction in the Nicolet National Forest Land and Resource Management Plan (Forest Plan) and respond to specific needs identified in the project area. The project-specific needs include addressing: forest age and composition, stand tending and reforestation, road closures, erosion control, fish and wildlife habitat maintenance and improvement, and archaeological evaluation and interpretation.

The McCaslin project area is located primarily on National Forest System lands, administered by the Lakewood/Laona Ranger District, north of Lakewood, Wisconsin. The legal description for the project area is: Township 33 North, Range 15 East, sections 1-3, 11-14, and 24-25; Township 33 North, Range 16 East, sections 1-11, 14-23, and 27-30; Township 33 North, Range 17 East, sections 5 and 6; and Township 34 North, Range 16 East, Sections 16, 17, 20-29, and 32-36; Fourth Principal Meridian.

DATES: Comments concerning the proposed land management activities should be received on or before May 7, 2001 to receive timely consideration in the preparation of the draft EIS.

ADDRESSES: Send written comments concerning the proposed land management activities or requests to be placed on the project mailing list to: Edward C. Wenger, District Ranger, Lakewood/Laona Ranger District, 15085 State Rd. 32, Lakewood, Wisconsin 54138.

FOR FURTHER INFORMATION CONTACT: John Lampereur, Project Leader/NEPA Coordinator, Lakewood/Laona Ranger District, 15085 State Rd. 32, Lakewood, Wisconsin 54138, phone (715) 276-6333.

SUPPLEMENTARY INFORMATION: The information presented in this notice is included to help the reviewer determine if they are interested in or potentially affected by the proposed land management activities. The information presented in this notice is summarized. Those who wish to provide comments, or are otherwise interested in or affected by the project, are encouraged to obtain additional information from the contact identified in the For Further Information Contact section.

Proposed Actions

The proposed land management activities (proposed actions) include the following, with approximate acreage and mileage values: (1) Forest Age and Composition—selection harvest 4,758 acres, thin 2,672 acres, clearcut harvest 1,113 acres, overstory removal harvest 231 acres, shelterwood harvest 28 acres, and seed tree harvest 2 acres (other actions needed include 2.9 miles of road construction, 23.4 miles of road reconstruction, and 6.0 miles of temporary road reopening); (2) Stand Tending and Reforestation—hand release 314 acres of young plantations, prescribe burn 222 acres, plant 277 acres of white pine, white spruce, and eastern hemlock in the understories of existing stands, thin the overstory of 160 acres, and temporary fence the thinned area; (3) Road Closures—close and reclassify 1.2 miles of roads as Class 2 System Roads, and close and remove from the Forest's classified road system 21.9 miles of roads; (4) Erosion Control—reconstruct 50 feet of trail in the area of the dispersed campsite at Lincoln Lake, reconstruct 100 feet of trail in the area of the dispersed campsite at Knowles Dam, and stabilize 100 feet of bank on the North Branch Oconto River; (5) Fish and Wildlife Habitat Maintenance and Improvement—fell approximately 25 trees along the shorelines of Lincoln Lake and the North Branch Oconto River, remove in-stream debris (½ mile) and place brush bundles (500 feet) in portions of the North Branch Oconto River, construct an osprey nesting platform in an existing snag adjacent to Bluegill Creek Impoundment, hand release 141 acres in 97 wildlife openings using brush cutters, mow 31 acres in 26 wildlife openings, prescribe burn 16 acres in 2 wildlife openings (these acres are included in #2), and plant fruit-bearing shrubs in 7 acres of wildlife openings; (6) Archaeological Evaluation and Interpretation—evaluate 26 sites, protect the sites from project activities until evaluation is complete, nominate sites that appear eligible for listing in the National Register of Historical Places, and develop public interpretive opportunities at 4 identified sites by constructing interpretive signs, benches, and 50 feet of trail.

Responsible Official

The District Ranger of the Lakewood/Laona Ranger District, Ed Wenger, is the Responsible Official for making project-level decisions from the project.

Decision Space

Decision-making will be limited to specific activities relating to the proposed actions. The primary decision to be made will be whether or not to implement the proposed actions or another action alternative that responds to the project's purpose and needs.

Project History

In April of 2000, the Deer Island Project was presented to the public for comment (scoping) prior to undertaking preparation of an Environmental Assessment. During the summer of 2000, the Forest Service was developing a proposal for the adjacent McCaslin Opportunity Area. These two efforts have since been combined into one planning effort, the McCaslin Project, for which an EIS will be prepared. Years of experience have shown that the effects of implementing similar activities in the area are not significant. We therefore do not feel that an EIS is required. However, due to the increase in appeals and litigation and for wise fiscal efficiency, an EIS will be prepared for the McCaslin Project. Comments previously received for the Deer Island Project will be brought forward into the McCaslin Project.

Preliminary Issues

Comments from American Indian tribes, the public, and other agencies were considered in identifying the following preliminary issues: effects to Threatened, Endangered, and Sensitive species; effects to Management Indicator Species; effects from road construction and road closures; effects to motorized recreational access.

Public Participation

The Forest Service is seeking comments from Federal, State, and local agencies, as well as local Native American tribes and other individuals or organizations that may be interested in or affected by the proposed actions. Comments received in response to this notice will become a matter of public record. While public participation is welcome at any time, comments on the proposed actions received within 30 days of this notice will be especially useful in the preparation of the draft EIS. Timely comments will be used to identify: potential issues with the proposed actions, alternatives to the proposed actions that respond to the identified needs and significant issues, and potential environmental effects of the proposed actions and alternatives considered in detail. In addition, the public is encouraged to contact and/or visit Forest Service officials at any time during the planning process.

Relation to Forest Plan Revision

The Chequamegon-Nicolet National Forest is in the process of revising and combining the existing Land and Resource Management Plans (Forest Plans) for the Chequamegon National Forest and the Nicolet National Forest, which were administratively separate at the time the Forest Plans were developed. A Notice of Intent to revise and combine the Forest Plans was issued in 1996. As part of this process, various inventories and evaluations are occurring. Additionally, the Forest is in the process of developing alternative land management scenarios that could change the desired future conditions and management direction for the Forest. A Draft Environmental Impact Statement (DEIS) will be published in the near future that will disclose the consequences of the different land management direction scenarios considered in detail. As a result of the Forest Plan revision effort, the Forest has new and additional information beyond that used to develop the existing Forest Plans. This information will be used where appropriate in the analysis of this project to disclose the effects of the proposed activities and any alternatives developed in detail.

The decisions associated with the analysis of this project will be consistent with the existing Forest Plan, unless amended, for the Nicolet. Under regulations of the National Environmental Policy Act (40 CFR 1506.1), the Forest Service can take actions while work on a Forest Plan revision is in progress because a programmatic Environmental Impact Statement—the existing Forest Plan Final EIS, already covers the actions. The relationship of this project to the proposed FP revision will be considered as appropriate as part of this planning effort.

Estimated Dates for Filing

The draft EIS is expected to be filed with the Environmental Protection Agency and available for public review in August 2001. A 45-day comment period will follow publication of a Notice of Availability of the draft EIS in the Federal Register. Comments received on the draft EIS will be used in preparation of the final EIS, expected in January 2002. A Record of Decision (ROD) will also be issued at that time along with the publication of a Notice of Availability of the final EIS and ROD in the Federal Register.

Reviewer's Obligation To Comment

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Dated: March 29, 2001.
Lynn Roberts,
Forest Supervisor, Chequamegon-Nicolet National Forest, 68 S. Stevens St., Rhinelander, WI 54501.

[FR Doc. 01-8385 Filed 4-4-01; 8:45 am]

BILLING CODE 3410-11-P